DEPARTMENT OF JUSTICE

Parole Commission

Sunshine Act Meeting

TIME AND DATE: 11:00 a.m. Tuesday, April 24, 2018

PLACE: U.S. Parole Commission, 90 K Street NE, 3rd Floor, Washington, DC.

STATUS: Open.

MATTERS TO BE CONSIDERED: Approval of February 13, 2018 minutes; Reports from the Vice Chairman, Commissioners and Senior Staff.

CONTACT PERSON FOR MORE INFORMATION: Jacqueline Graham, Staff Assistant to the Chairman, U.S. Parole Commission, 90 K Street NE, 3rd Floor, Washington, DC 20530, (202) 346-7010.

Dated: April 13, 2018.
J. Patricia Wilson Smoot,
Chairperson, U.S. Parole Commission.

[FR Doc. 2018-08143 Filed 4-13-18; 4:15 pm]

BILLING CODE 4410-31-P